DEPARTMENT OF JUSTICE

Notice of Lodging of Proposed Consent Decree Under the Clean Air Act

On June 9, 2015, the Department of Justice lodged a proposed Consent Decree with the United States District Court for the District of Idaho in the lawsuit entitled United States v. Clearwater Paper Corporation, Civil Action No. 15-00200.

Defendant Clearwater Paper Corporation (Clearwater) owns and operates a paper and pulp mill in Lewiston, Idaho. The proposed Consent Decree settles the claims for penalties and injunctive relief based on the following Clean Air Act violations: (1) Violations of Subparts A and BB of the federal New Source Performance Standards (NSPS), 40 CFR part 60; (2) violations of Subpart S of the National Emission Standards for Hazardous Air Pollutants (NESHAP), 40 CFR part 63; and (3) violations of Clearwater's Title V permit that incorporates these NESHAP and NSPS requirements. See 42 U.S.C. 7401 et seq. Under the proposed Consent Decree, Clearwater will install necessary equipment to cease ongoing violations by September 30, 2015. Clearwater will also pay a civil penalty of $300,000.

The publication of this notice opens a period for public comment on the Consent Decree. Comments should be addressed to the Assistant Attorney General, Environment and Natural Resources Division, and should refer to United States v. Clearwater Paper Corporation, D.J. Ref. No. 90-5-2-1-10620. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $7.50 (25 cents per page reproduction cost) payable to the United States Treasury.

Susan M. Akers,
Assistant Section Chief, Environmental Enforcement Section, Environment and Natural Resources Division.

[FR Doc. 2015-14705 Filed 6-15-15; 8:45 am]

BILLING CODE 4410-15-P